DEPARTMENT OF TRANSPORTATION

National Highway Traffic Safety Administration

49 CFR Part 571

[Docket No. NHTSA-2004-19939]

RIN 2127-AI54

Tire Safety Information; Technical Amendment

AGENCY: National Highway Traffic Safety Administration (NHTSA), Department of Transportation.

ACTION: Final rule; technical amendment.

SUMMARY: This document contains a technical amendment to the Federal motor vehicle safety standard (FMVSS) No. 119, New pneumatic tires for vehicles other than passenger cars. Specifically, the amendment changes the metric value of tire speed restriction threshold from 88 km/h (55 mph) to 90 km/h (55 mph). The amendment will make FMVSS No. 119 more consistent with established tire industry protocol and labeling technology, without making any substantive changes to the standard.

DATES: This rule is effective February 3, 2005.

FOR FURTHER INFORMATION CONTACT: For legal issues: Mr. George Feygin, Office of Chief Counsel (telephone: (202) 366-2992) (Fax: (202) 366-3820); NHTSA, 400 7th Street, SW., Washington, DC 20590. For technical issues: Mr. Joseph Scott, Office of Crash Avoidance Standards, (telephone: (202) 366-2720) (Fax: (202) 366-7002); NHTSA, 400 7th Street, SW., Washington, DC 20590.

SUPPLEMENTARY INFORMATION: FMVSS No. 119 specifies performance requirements for tires used on motor vehicles other than passenger cars, and requires certain markings on tires to facilitate proper selection and use. S6.5(e) requires that a tire be marked with a speed restriction information if the maximum speed is below 88 km/h (55 mph). Further, Table III contains a reference to speed-restricted tires with the maximum speed of 88 km/h (55 mph).

Within the tire industry, the metric value of the tire speed restriction threshold is 90 km/h instead of 88 km/h. Also, the English value of the tire speed restriction threshold is sometimes listed at 56 mph, instead of 55 mph. The industry uses speed rating symbols to differentiate among the tires with various maximum speed capabilities. The speed symbol of “G” is associated with tires with a maximum speed of 90 km/h. The discrepancy between 88 km/h and 90 km/h, as well as 55 mph and 56 mph is the result of using different methods of converting the English speed measurements to the metric system and vice versa.

The Tire and Rim Association Inc., has petitioned NHTSA to change the speed restriction threshold from 88 km/h to 90 km/h and from 55 mph to 56 mph. They argued that this change would make FMVSS No. 119 more consistent with established tire industry protocol and labeling technology, and would facilitate international harmonization.

The agency decided to amend only the metric value of tire speed restriction threshold from 88 km/h to 90 km/h. The English value will remain at 55 mph because we found that majority of tire industry literature lists the speed restriction threshold at 55 mph (90 km/h) instead of 56 mph (90 km/h).¹ Thus, 55 mph appears to be generally accepted within the industry.

¹ See 2004 Year Book; The Tire and Rim Association, Inc., at page 3-06. The Japan Automobile Tyre Manufacturers Association, Inc. (JATMA), the European Tyre and Rim Technical Organization (ETRTO), and the Scandinavian Tire & Rim Organization (STRO) also rely on 90 km/h as the speed restriction threshold.

We believe that the discrepancy between the metric values of the speed restriction threshold currently used by the agency and the one used by the majority of industry publications result from different methods of converting 55 mph to km/h. We note that the change from 88 km/h to 90 km/h will have no substantive practical effect on FMVSS No. 119 because the difference between the two values is so insignificant.

In consideration of the foregoing, this document amends the CFR by changing the metric value of tire speed restriction threshold in S6.5(e) and Table III from 88 km/h to 90 km/h.

This technical amendment will not impose or relax any substantive requirements or burdens on manufacturers. Therefore, NHTSA finds for good cause that any notice and opportunity for comment on these correcting amendments are not necessary.

List of Subjects in 49 CFR Part 571

Motor vehicle safety, Reporting and recordkeeping requirements, Tires.

49 CFR part 571 is amended by making the following technical amendment:

PART 571—[CORRECTED]

1. The authority citation continues to read as follows:

Authority: 49 U.S.C. 322, 2011, 30115, 30166 and 30177; delegation of authority at 49 CFR 1.50.

2. Section 571.119 is amended by revising paragraph S6.5(e) to read as follows; and amending Table III, under the column “Description”, by revising “88 km/h” to read “90 km/h”.

§ 571.119 New pneumatic tires for vehicles other than passenger cars.

* * * * *

(e) The speed restriction of the tire, if 90 km/h (55 mph) or less, shown as follows:

Max speed _ km/h (_ mph).

* * * * *

Issued: December 20, 2004.
Stephen R. Kratzke,
Associate Administrator for Rulemaking.

[FR Doc. 05-41 Filed 1-3-05; 8:45 am]

BILLING CODE 4910-59-P